DEPARTMENT OF TRANSPORTATION

Federal Aviation Administration

14 CFR Part 23

[Docket No. CE184, Special Condition 23-118-SC]

Special Conditions; Avidyne Corporation, Cirrus Design Corporation Model SR20/SR22; Protection of Systems for High Intensity Radiated Fields (HIRF); Correction

AGENCY: Federal Aviation Administration (FAA), DOT.

ACTION: Final special conditions; correction.

SUMMARY: The FAA published a document in the Federal Register on May 24, 2002 (67 FR 36502), concerning final special conditions on the Avidyne Corporation on the Cirrus Design Corporation Model SR20/SR22. There was an inadvertent error in the preamble of the special conditions in the name of the corporation. This document contains a correction to the name of the company under the Novel or Unusual Design Features section of the final special conditions.

DATES: The effective date of these corrected special conditions is May 7, 2002.

FOR FURTHER INFORMATION CONTACT: Ervin Dvorak, Aerospace Engineer, Standards Office (ACE-110), Small Airplane Directorate, Aircraft Certification Service, Federal Aviation Administration, 901 Locust, Room 301, Kansas City, Missouri 64106; telephone (816) 329-4123.

SUPPLEMENTARY INFORMATION:

Need for Correction

The FAA published a document on May 24, 2002 (67 FR 36502) that issued final special conditions. In the document under the Novel or Unusual Design Features section, a company by the name of “Carpenter Avionics Inc.” appears, and it should have read “Avidyne Corporation.” This document corrects that error.

Correction of Publication

Accordingly, on page 36503, in column 3, the preamble of the special conditions is corrected to remove the name “Carpenter Avionics Inc.” and to replace it with the name “Avidyne Corporation” in the Novel or Unusual Design Features section.

Issued in Kansas City, Missouri on September 17, 2002.
Michael Gallagher,
Manager, Small Airplane Directorate, Aircraft Certification Service.

[FR Doc. 02-24666 Filed 9-26-02; 8:45 am]

BILLING CODE 4910-13-P